DEPARTMENT OF TRANSPORTATION

Federal Aviation Administration

14 CFR Part 39

[Docket No. 2001-NM-114-AD; Amendment 39-12647; AD 2002-03-06]

RIN 2120-AA64

Airworthiness Directives; McDonnell Douglas Model DC-9-81, -82, -83, and -87 Series Airplanes, Model MD-88 Airplanes, and Model MD-90-30 Series Airplanes

AGENCY: Federal Aviation Administration, DOT.

ACTION: Final rule.

SUMMARY: This amendment supersedes an existing airworthiness directive (AD), applicable to certain McDonnell Douglas Model DC-9-81, -82, -83, and -87 series airplanes, Model MD-88 airplanes, and Model MD-90-30 series airplanes, that currently requires a revision to the applicable Airplane Flight Manual (AFM) to provide the flightcrew with the appropriate landing distance and flap positions, if applicable, for wet or icy runways. That AD also provides for an optional terminating action for the applicable AFM revision. For certain airplanes, this action requires accomplishment of the previously optional terminating action. The actions specified by this AD are intended to prevent the flightcrew from performing a scheduled landing on a runway of potentially insufficient length due to failure of the weight-on-wheels spoiler lockout mechanism system and possible inactivation of the autospoiler actuator, which could result in the airplane overrunning the end of the runway during landing on a wet or icy runway.

DATES: Effective March 21, 2002.

The incorporation by reference of certain publications listed in the regulations is approved by the Director of the Federal Register as of March 21, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Albert Lam, Aerospace Engineer, Systems and Equipment Branch, ANM-130L, FAA, Los Angeles Aircraft Certification Office, 3960 Paramount Boulevard, Lakewood, California 90712-4137; telephone (562) 627-5346; fax (562) 627-5210.

SUPPLEMENTARY INFORMATION: A proposal to amend part 39 of the Federal Aviation Regulations (14 CFR part 39) by superseding AD 2001-07-10, amendment 39-12176 (66 FR 18870, April 12, 2001), which is applicable to certain McDonnell Douglas Model DC-9-81, -82, -83, and -87 series airplanes, Model MD-88 airplanes, and Model MD-90-30 series airplanes, was published in the Federal Register on June 29, 2001 (66 FR 34593). The action proposed to continue to require a revision to the applicable Airplane Flight Manual (AFM) to provide the flightcrew with the appropriate landing distance and flap positions, if applicable, for wet or icy runways. That action also proposed to continue to provide for an optional terminating action for the applicable AFM revision. For certain airplanes, that action also proposed to require accomplishment of the previously optional terminating action.

Comments

Interested persons have been afforded an opportunity to participate in the making of this amendment. Due consideration has been given to the comments received.

Request To Approve Previous Alternative Methods of Compliance (AMOCs)

One commenter requests that AMOCs approved for AD 2001-07-10 (amendment 39-12176) remain valid for the purposes of the the proposed rule. The commenter notes that, since the proposed rule merely requires compliance with a previously optional terminating action, the existing AMOCs should also be given credit in the proposed rule.

The FAA agrees with the commenter's request, and has revised paragraph (e) of the final rule to reflect credit for the accomplishment of AMOCs in accordance with AD 2001-07-10.

Request To Clarify the Requirements of Paragraph (d) of the Proposed Rule

One commenter notes that paragraph (d) of the proposed rule (which is applicable to Model MD-90 series airplanes) refers to doing the actions specified in paragraphs (c)(1) and (c)(2) of the AD (which applies to Model MD-80 series airplanes). To eliminate any confusion, the commenter requests that paragraph (d) of the proposed rule be revised to clearly specify the actions required for the MD-90 series airplanes, rather than refering to paragraph (c) of the proposed rule.

The FAA acknowledges that clarification is needed. We have revised paragraph (d) of the final rule to add new paragraphs (d)(1) and (d)(2) to clarify the actions required for Model MD-90 series airplanes.

Conclusion

After careful review of the available data, including the comments noted above, the FAA has determined that air safety and the public interest require the adoption of the rule with the changes previously described.

Cost Impact

There are approximately 224 Model DC-9-81, -82, -83, and -87 series airplanes, Model MD-88 airplanes, and Model MD-90-30 series airplanes of the affected design in the worldwide fleet. The FAA estimates that 67 airplanes of U.S. registry will be affected by this AD.

The AFM revisions that are currently required by AD 2001-07-10, and retained in this AD, take approximately 1 work hour per airplane to accomplish, at an average labor rate of $60 per work hour. Based on these figures, the cost impact of the currently required actions on U.S. operators is estimated to be $4,020, or $60 per airplane.

For certain airplanes, the new terminating action that is required by this AD will take approximately 22 work hours per airplane to accomplish, at an average labor rate of $60 per work hour. The manufacturer has committed previously to its customers that it will bear the cost of replacement parts. Based on these figures, the cost impact of these requirements on U.S. operators of Model MD-90-30 series airplanes is estimated to be $1,320 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator of Model DC-9-81, -82, -83, and -87 series airplanes, and Model MD-88 airplanes elect to accomplish the optional terminating action that will be provided by this AD action, it will take approximately 22 work hours to accomplish it, at an average labor rate of $60 per work hour. The manufacturer has committed previously to its customers that it will bear the cost of replacement parts. Based on these figures, the cost impact of the optional terminating action will be $1,320 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12176 (66 FR 18870, April 12, 2001), and by adding a new airworthiness directive (AD), amendment 39-12647, to read as follows:

2002-03-06 McDonnell Douglas: Amendment 39-12647. Docket 2001-NM-114-AD. Supersedes AD 2001-07-10, Amendment 39-12176.

Applicability: Models identified in Table 1 of this AD, certificated in any category; excluding those airplanes on which the modification specified in the applicable service bulletin listed in Table 1 of this AD has been done. Table 1 is as follows:

Table 1—Applicability
Model | As listed in
DC-9-81, -82, -83, and -87 series airplanes, and MD-88 airplanes | Boeing Alert Service Bulletin MD80-27A359, Revision 01, dated March 26, 2001.
MD-90-30 series airplanes | Boeing Alert Service Bulletin MD90-27A031, Revision 01, dated March 26, 2001.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To prevent the flightcrew from performing a scheduled landing on a runway of potentially insufficient length due to failure of the weight-on-wheels spoiler lockout mechanism system and possible inactivation of the autospoiler actuator, which could result in the airplane overrunning the end of the runway during landing on a wet or icy runway, accomplish the following:

Restatement of Requirements of AD 2001-07-10

Airplane Flight Manual Revisions

(a) For Model DC-9-81, -82, -83, and -87 series airplanes, and MD-88 airplanes: Within 48 clock hours after April 27, 2001 (the effective date AD 2001-07-10, amendment 39-12176), revise the Performance Section of the FAA-approved Airplane Flight Manual (AFM) to include the following statement. This may be done by inserting a copy of this AD in the AFM.

“In-flight Spoiler Lockout Mechanism Installed and Activated, and Automatic Ground Spoiler System Operated.

When the in-flight spoiler lockout mechanism is installed and activated, the wet or icy runway landing field length, which is determined from the appropriate Landing Field Length and Speed Chart, must be increased by 1,720 feet under either of the following conditions:

a. The weight-on-wheels unlocking feature is not installed; or

b. The weight-on-wheels unlocking feature is installed, but inoperative.

When the in-flight spoiler lockout mechanism is deactivated, the above landing field length is not required.”

(b) For Model MD-90-30 series airplanes: Within 48 clock hours after April 27, 2001, do the actions specified in either paragraph (b)(1) or (b)(2) of this AD.

(1) Revise the Performance Section of the FAA-approved AFM to include the following statement. This may be done by inserting a copy of this AD in the AFM.

“Landing Field Length for A Wet or Icy Runway.

Increase landing field length, which is determined from the Basic Manual, by 1,800 feet (549 meters) for a wet or icy runway with 28-degree and 40-degree flaps.

There is no landing field length penalty for a dry runway.

In-flight spoiler lockout mechanism may NOT be deactivated, as indicated in the Master Minimum Equipment List (MMEL).”

(2) Revise the Performance Section of the FAA-approved AFM by inserting a copy of Appendix 3E, Section 4, of MD-90 AFM MDC-91K0930, dated March 14, 2001, into the AFM.

Note 2: The MD-90 Master Minimum Equipment List (MMEL), system and sequence number 65-02, and the second proviso of system and sequence number 65-03, currently specifies that, for 10 days, the in-flight spoiler lockout mechanism system may be deactivated. Where differences exist between the current specification of the MMEL and the requirements of this AFM limitation, the AFM limitation prevails.

Optional Terminating Modifications

(c) For Model DC-9-81, -82, -83, and -87 series airplanes, and MD-88 airplanes: Accomplishment of the actions specified in paragraphs (c)(1) and (c)(2) of this AD, per Boeing Alert Service Bulletin MD80-27A359, dated January 29, 2001, or Revision 01, dated March 26, 2001, terminates the AFM revision requirements of paragraph (a) of this AD. After doing those actions, the AFM revision required by paragraph (a) of this AD may be removed from the AFM:

(1) Install the spoiler support bracket assemblies and relays; and

(2) Revise the spoiler lockout relay wiring.

New Actions Required by This AD

Terminating Modification for Model MD-90-30 Series Airplanes

(d) For Model MD-90-30 series airplanes: Within 18 months after the effective date of this AD, do the actions specified in paragraphs (d)(1) and (d)(2) of this AD, per Boeing Alert Service Bulletin MD90-27A031, dated January 29, 2001, or Revision 01, dated March 26, 2001. Accomplishment of those actions terminates the AFM revision requirements of paragraph (b) of this AD. After doing those actions, the AFM revision required by paragraph (b) of this AD may be removed from the AFM:

(1) Install the spoiler support bracket assemblies and relays, and

(2) Revise the spoiler lockout relay wiring.

Alternative Methods of Compliance

(e)(1) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

(2) Alternative methods of compliance, approved previously in accordance with AD 2001-07-10, amendment 39-12176, are approved as alternative methods of compliance with this AD.

Note 3: Information concerning the existence of approved alternative methods of compliance with this AD, if any, may be obtained from the Los Angeles ACO.

Special Flight Permits

(f) Special flight permits may be issued in accordance with sections 21.197 and 21.199 of the Federal Aviation Regulations (14 CFR 21.197 and 21.199) to operate the airplane to a location where the requirements of this AD can be accomplished.

Incorporation by Reference

(g) The actions required by paragraph shall be done in accordance with Boeing Alert Service Bulletin MD90-27A031, dated January 29, 2001, or Boeing Alert Service Bulletin MD90-27A031, Revision 01, dated March 26, 2001. The optional terminating modification specified in paragraph (c) of this AD, if accomplished, shall be done in accordance with Boeing Alert Service Bulletin MD80-27A359, dated January 29, 2001, or Boeing Alert Service Bulletin MD80-27A359, Revision 01, dated March 26, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(h) This amendment becomes effective on March 21, 2002.

Issued in Renton, Washington, on February 5, 2002.
Ali Bahrami,
Acting Manager, Transport Airplane Directorate, Aircraft Certification Service.

[FR Doc. 02-3289 Filed 2-13-02; 8:45 am]

BILLING CODE 4910-13-U